DEPARTMENT OF ENERGY

Federal Energy Regulatory Commission

[Docket No. FA21-5-000]

Commonwealth Edison Company; Notice of Designation of Commission Staff as Non-Decisional

With respect to an order issued by the Commission on December 8, 2023, in the above-captioned docket, with the exceptions noted below, the staff of the Office of Enforcement (OE) are designated as non-decisional in deliberations by the Commission in this docket.¹ Accordingly, pursuant to 18 CFR 385.2202 (2022), they will not serve as advisors to the Commission or take part in the Commission's review of any offer of settlement. Likewise, as non-decisional staff, pursuant to 18 CFR 385.2201 (2022), they are prohibited from communicating with advisory staff concerning any deliberations in this docket.

¹ Commonwealth Edison Company, 185 FERC ¶ 61,179 (2023).

Exceptions to this designation of OE staff as non-decisional are:

Jennifer Gordon

Laura Vallance

Olga Anguelova

Kim Horner

Todd Kuzniewski

Nkosi Brooks

Dated: December 20, 2023.
Kimberly D. Bose,
Secretary.

[FR Doc. 2023-28543 Filed 12-26-23; 8:45 am]

BILLING CODE 6717-01-P